ENVIRONMENTAL PROTECTION AGENCY

[FRL-9227-3]

Senior Executive Service Performance Review Board; Membership

AGENCY: Environmental Protection Agency.

ACTION: Notice.

SUMMARY: Notice is hereby given of the membership of the Environmental Protection Agency Performance Review Board for 2010.

FOR FURTHER INFORMATION CONTACT: Karen D. Higginbotham, Director, Executive Resources Division, 3606A, Office of Human Resources, Office of Administration and Resources Management, Environmental Protection Agency, 1200 Pennsylvania Avenue, NW., Washington, DC 20460, (202) 564-7287.

SUPPLEMENTARY INFORMATION: Section 4314(c)(1) through (5) of Title 5, U.S.C., requires each agency to establish in accordance with regulations prescribed by the Office of Personnel Management, one or more SES performance review boards. This board shall review and evaluate the initial appraisal of a senior executive's performance by the supervisor, along with any recommendations to the appointment authority relative to the performance of the senior executive.

Members of the 2010 EPA Performance Review Board are:

Kimberly A. Lewis, Director, Office of Human Resources, Office of Administration and Resources Management;

William H. Benson, Director, Gulf Ecology Division, National Health and Environmental Effects Research Laboratory, Office of Research and Development;

David Bloom, Director, Office of Budget, Office of the Chief Financial Officer;

Jeanette Brown, Director, Office of Small Business Programs, Office of the Administrator;

Howard Cantor, Director, National Enforcement Investigations Center, Office of Enforcement and Compliance Assurance;

Rafael DeLeon (Ex-Officio), Acting Director, Office of Civil Rights, Office of the Administrator;

Carl E. Edlund, Director, Multimedia Planning and Permitting Division, Region 6;

James J. Jones, Principal Deputy Assistant Administrator, Office of Chemical Safety and Pollution Prevention;

Denise M. Keehner, Director, Office of Wetlands, Oceans and Watersheds, Office of Water;

Brenda Mallory, Principal Deputy General Counsel, Office of General Counsel;

Richard Martin, Deputy Director, Office of Information Analysis and Access, Office of Environmental Information;

James W. Newsom, Assistant Regional Administrator for Policy and Management, Region 3;

William W. Rice, Deputy Regional Administrator, Region 7;

Denise B. Sirmons, Deputy Director, Office of Grants and Debarment, Office of Administration and Resources Management;

Michael M. Stahl, Deputy Assistant Administrator, Office of International and Tribal Affairs;

Kevin Teichman, Deputy Assistant Administrator for Science, Office of Research and Development;

Panagiotis E. Tsirigotis, Director, Sector Policies and Programs Division—RTP, Office of Air and Radiation;

Russell L. Wright, Jr., Assistant Regional Administrator for Policy and Management, Region 4;

Renee Wynn, Director, Office of Program Management, Office of Solid Waste and Emergency Response;

Karen D. Higginbotham, Director, Executive Resources Division, Office of Human Resources, Office of Administration and Resources Management.

Dated: November 4, 2010.
Craig E. Hooks,
Assistant Administrator, Administration and Resources Management.

[FR Doc. 2010-28821 Filed 11-15-10; 8:45 am]

BILLING CODE 6560-50-P